DEPARTMENT OF JUSTICE

Antitrust Division

Notice Pursuant to the National Cooperative Research and Production Act of 1993—Heterogeneous System Architecture Foundation

Notice is hereby given that, on August 31, 2012, pursuant to Section 6(a) of the National Cooperative Research and Production Act of 1993, 15 U.S.C. 4301 et seq. (“the Act”), Heterogeneous System Architecture Foundation (“HSA Foundation”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Advanced Micro Devices Inc, Austin, TX; ARM, Ltd., Cambridge, UNITED KINGDOM; Imagination Technologies Group plc, Kings Langley, Hertfordshire, UNITED KINGDOM; MediaTek Inc., Hsinchu City, Taiwan, PEOPLE'S REPUBLIC OF CHINA; and Texas Instruments Inc., Dallas, TX.

The general area of HSA Foundation's planned activity shall include, but not be limited to, building and promoting the common business interests of the semiconductor industry by encouraging the broad and open industry adoption of the heterogeneous system architecture and stimulating a free exchange of information benefitting the industry.

Patricia A. Brink,
Director of Civil Enforcement, Antitrust Division.

[FR Doc. 2012-24997 Filed 10-10-12; 8:45 am]

BILLING CODE 4410-11-P